DEPARTMENT OF JUSTICE

Office of Justice Programs

[OJP (OJJDP)-1290]

Understanding and Monitoring the “Whys” Behind Juvenile Crime Trends

AGENCY: Office of Juvenile Justice and Delinquency Prevention, Office of Justice Programs, Justice.

ACTION: Announcement of discretionary competitive assistance grant.

SUMMARY: The Office of Juvenile Justice and Delinquency Prevention is issuing a solicitation for applications to undertake a definitive study of recent trends in juvenile crime and violence in order to better understand the factors correlated with these trends, and to be prepared to explain future trends in delinquency and youth violence. This 5-year research project will explore ways to determine the reasons for changes in local juvenile crime trends in the 1990's and to monitor them into the next millennium. Federal, State, and local policymakers need to have a better sense of what went right in communities where declines occurred and what went wrong where there were increases or where rates continued at high levels. Therefore, it is necessary to develop methods to understand and monitor the reasons for such changes. It is expected that the lessons learned from this inquiry will yield a number of tools that Federal, State and local policymakers and planners can use to anticipate, monitor, and explain future trends and to plan effective prevention and intervention strategies.

DATES: Applications must be received no later than 5 p.m. ET on October 23, 2000.

ADDRESSES: All application packages should be mailed or delivered to the Office of Juvenile Justice and Delinquency Prevention, c/o Juvenile Justice Resource Center, 2277 Research Boulevard, Mail Stop 2K, Rockville, MD 20850; 301-519-5535. Faxed or e-mailed applications will not be accepted. Interested applicants can obtain the OJJDP Application Kit from the Juvenile Justice Clearinghouse at 800-638-8736. The Application Kit is also available at OJJDP's Web site at www.ojjdp.ncjrs.org/grants/about/html#kit. (See “Format “ and “Delivery Instructions” later in this announcement for instructions on required standards and the address to which applications must be sent.)

FOR FURTHER INFORMATION CONTACT: Barbara Allen-Hagen, Program Manager, Research and Program Development Division, Office of Juvenile Justice and Delinquency Prevention at 202-307-1308. [This is not a toll-free number.]

SUPPLEMENTARY INFORMATION:

Purpose

The purpose of this research project is to identify and understand the principal reasons behind the trends in juvenile crime and violence. As the national rates of youth violence have dropped substantially in recent years, a number of theories have been advanced to explain this trend. However, the lack of empirical evidence to fully support various theories enables proponents of vastly different policy orientations to claim victory for the recent declines and continue to assert their policy objectives. An important element to recognize in this debate is that not all localities have experienced the same trends in juvenile violent crime either during the increases in the late 1980's or in the subsequent declines beginning in the early 1990's. Further, there is considerable variation in local juvenile crime rates across the country. Federal, State, and local policymakers need to have a better sense of what went right in communities where declines occurred and what went wrong where there were increases or where rates continued at high levels. Therefore, it is necessary to develop methods to understand and monitor the reasons for such changes. It is expected that the lessons learned from this inquiry will yield a number of tools that Federal, State and local policymakers and planners can use to anticipate, monitor, and explain future trends and to plan effective prevention and intervention strategies.

Overview

Pursuant to Section 243 of the Juvenile Justice and Delinquency Prevention Act of 1974, as amended (42 U.S.C. 5601 et seq.), the Office of Juvenile Justice and Delinquency Prevention (OJJDP) is authorized to conduct a variety of research, evaluation, and demonstration functions. Under this authority, the Office will fund a definitive study of recent trends in juvenile crime and violence in order to better understand the factors correlated with these trends and be able to explain future trends and developments in delinquency and youth violence. This 5-year research project will explore ways to determine the reasons for changes in juvenile crime trends in the 1990's and into the next millennium. It is expected that a research design, based on a thorough review of the literature, will be developed and applied in selected jurisdictions. The study will focus on local-level juvenile crime trends, exploring a wide range of factors, including demographics; economics; public policy; Federal, State and local programmatic and community initiatives; and spiritual and cultural trends and values as well as other potential variables that may help explain the trends. Both retrospective and prospective approaches are contemplated for building the capacity to better understand the “whys” of juvenile crime trends.

This program announcement seeks applications for the first phase (12 months) of this effort. OJJDP invites applications from organizations that have the capacity to effectively design and carry out both the first year and projected future support of the research project. Applicants must demonstrate that they understand and have the capacity to creatively address the theoretical and analytical challenges that this initiative presents in a scientifically defensible manner. During this first 12-month phase (fiscal year 2000), the research team will conduct a literature review; develop testable hypotheses, an appropriate research design, and a feasibility assessment of the study; develop a strategy for selecting appropriate localities for study; and recruit these localities to participate in the research if feasibility is established. Phase 2 (fiscal years 2001, 2002, and 2003) consists of refining and operationalizing the research design; implementing, testing, and refining the model (data collection and analysis tools) in the selected jurisdictions; analyzing the data; and producing interim reports to communicate the study activities to the field. Phase 3 (fiscal year 2004) involves the drafting of a final report, including the refinement of data collection and analysis tools for community use, revision, and dissemination.

Background

Evidence from both of the Nation's two primary data sources on juvenile crime—the National Crime Victimization Survey (NCVS) and the Federal Bureau of Investigation's (FBI's) Uniform Crime Reporting (UCR) program—presents a similar picture regarding the trends in juvenile violent crime over the past two decades. Both sources indicate a fairly stable pattern through most of the 1980's, then a sharp increase in juvenile violence in the latter part of the decade, lasting until the early 1990's, at which point the rates began a steady decline.

Based on crime victims' reports to the NCVS and homicides reported to the FBI:

• Between 1980 and 1989, the serious violent juvenile crime offending rate for the Nation fluctuated between 29 and 40 serious violent crimes per 1,000 youth between the ages of 12 and 17. Then came a 4-year, 53-percent rise from the 1989 rate of 34 per 1,000 up to a high of 52 per 1,000 in 1993. After the 1993 peak, the rates steadily declined over the next 5 years, dropping a total of 49 percent, down to 26.5 per 1,000 in 1998.²

• Estimates of the number of homicides known to involve juvenile offenders indicate a drop of 35 percent from its peak year in 1993 to 1998.³

• Between 1980 and 1998, the percentage of all serious violent crime involving juveniles has ranged from 19 percent in 1982 to 26 percent in 1993, the peak year for youth violence. In 1998, 22 percent of all such victimizations involved a juvenile offender.⁴

Based on the FBI's arrest statistics:⁵

• The arrest data show that in 1998, for the fourth consecutive year, total juvenile arrests for Violent Crime Index offenses—murder, forcible rape, robbery, and aggravated assault—declined.

• The 62-percent increase in the juvenile Violent Crime Index arrest rate from 1988 to 1994, the peak year, was largely erased by 1998, with that rate just 13 percent above the 1988 level. The rate in 1998 was at its lowest level in 10 years and 30 percent below the peak year.

• The decrease in the number of Juvenile Violent Crime Index arrests between 1994 and 1998 was 19 percent for juveniles, compared with 6 percent for adults. The percentage of violent crimes cleared by juvenile arrests also continued to decline from a high of 14 percent down to 12 percent in 1998.

• In contrast to the substantial fluctuations in juvenile violent crime arrest rates between 1980 and 1998, the juvenile arrest rate for Property Crime Index offenses—burglary, larceny/theft, motor vehicle theft, and arson—changed very little, with a slow decline beginning in the mid 1990's resulting in the lowest level since 1980.

Although national crime statistics present the big picture for the country as a whole, it is not the complete picture, as illustrated by maps depicting county-level arrest rates.⁶ OJJDP's Juvenile Offenders and Victims: 1999 National Report clearly illustrates the vast variation in levels of violent crime resulting in a juvenile arrest. County-level juvenile arrest rates for Violent Index Crimes range from 0 juvenile arrests per 100,000 juveniles ages 10-17 to more than 500 per 100,000. Local rates were higher than the national average (412 per 100,000) in 1997 in 14 percent (more than 400 counties) of the 3,141 counties, and 62 percent of the counties had rates less than half the national average. High juvenile violent crime arrest rates were found in counties with large and small populations.⁷ In addition, examining the county-level trends from 1994 to 1997, there is also a divergence from the national trends.⁸ It is the variation in the local levels of and trends in juvenile crime and violence that is of interest in this study.

The Council on Crime in America reported that America is now home to about 57 million children under age 15, some 20 million of them ages 4 to 8. The teenage population will top 30 million by the year 2006, the highest number since 1975. “Thus, no one should feel certain that recent declines in crime will continue into the next century, and we must resist any temptation to ignore or trivialize our nation's present and future youth crime dilemmas.” ⁹

This significant turnabout in national juvenile trends offers a welcome relief, especially in light of dire predictions regarding a coming wave of violence by young superpredators in the coming millennium.¹⁰ However, the sudden and precipitous change in juvenile violence raises many questions that have not yet been answered with a strong degree of certitude: Why did this happen? Did it happen everywhere? Where didn't it happen and why not? What actions, policies, programs, and so forth should be continued to sustain this decline or to reverse an increase?

Numerous reporters, news commentators, politicians, and scholars have put forth their explanations of the reasons for the rise and fall in crime.¹¹ Many theories have been offered and supported with varying degrees of empirical evidence and with varying degrees of attention paid specifically to juvenile crime trends as well as to local divergence from national trends. A noteworthy effort by scholars exploring the causes of the crime drop is a forthcoming volume entitled The Crime Drop in America, cosponsored by the Harry Frank Guggenheim Foundation and the National Consortium on Violence Research.¹² This work focuses primarily on the larger picture of overall crime, with juvenile violence issues contributing to that backdrop.

There is currently an abundance of plausible yet unintegrated, and possibly contradictory, theories about the reasons for the directions of recent crime trends. Theories range in their focuses from distal to proximal causes of crime and violence and in principal agent(s) or phenomena deemed responsible for change. The following is a nonexhaustive list of explanations that have been put forth or that could be considered as potential areas of inquiry:

Population-based theories: demographic shifts in the composition of the youth population as a result of the echo-baby boom; ¹³ legalization and greater use of abortion beginning in the 1970's; ¹⁴ teenage parenting trends; ¹⁵ and growing numbers of immigrants, both legal and illegal.

Epidemiological and etiological theories: trends in and the impacts of child maltreatment and domestic violence; ¹⁶ the evolution of crack cocaine drug markets and associated violence; ¹⁷ the emergence of youth gangs; ¹⁸ proliferation of media violence; increased handgun ownership and use; ¹⁹ trends in child poverty; ²⁰ the lack of responsible adults (parents, relatives, and mentors) in children's lives; and the decline of social capital.²¹

Economic theories/policies: local economic prosperity compared with the national economy; presence of major Federal economic development initiatives (Empowerment Zones/ Empowerment Communities); the relationship between wages and involvement in drug sales; and the deterrent effects of violence on involvement in the drug trade.²²

Crime-focused public policies: changes in policing strategies and practices such as community policing, problem-oriented policing, and targeting hot spots; ²³ legislative erosion of the jurisdiction of the juvenile court through mechanisms that facilitate the transfer of juveniles to criminal court; ²⁴ drug suppression policy; public and/or private collaboratives investing in youth violence prevention programs (Federal, State, local, and philanthropic foundation initiatives); ²⁵ more punitive sentencing policies, ²⁶ including mandatory minimums for guns, drugs, “Three Strikes and You're Out” policies, and elimination of parole; mandatory arrests in cases of domestic violence; ²⁷ and other public and private investments in crime prevention initiatives and justice system programs.

Social policies: welfare reform, public housing policies, zero tolerance policies in schools and public housing for drugs, weapons, and violence; public health approaches to violence prevention; provision of mental health and substance abuse treatment; and various public/private partnerships promoting youth development such as America's Promise and the Boys & Girls Clubs of America.²⁸

Grassroots movements: local and national movements launched by leaders of various faith communities ²⁹ and grassroots organizations that voice a call to community and moral responsibility, such as the Million Man March, Promise Keepers, the Million Mom March, the domestic violence advocacy community, youth-initiated public service, and others.

The challenge to the successful applicant is the task of sifting through these competing explanations and determining not only which merit further scrutiny in the exploration of juvenile crime and violence trends but also where and how to pursue the research hypotheses that emerge from this exercise. This latter concern points to the importance of selecting appropriate sites to study and collecting data relevant to test research hypotheses. It is anticipated that the research team will need to select a limited number of local sites that reflect different levels and patterns of juvenile crime trends to participate in a data collection and analysis effort, based on the model proposed by the successful applicant.

In the past decade, with advances in technology and the use of more sophisticated management information systems, numerous localities have initiated data-driven crime/delinquency prevention initiatives or comprehensive planning initiatives designed specifically to affect juvenile crime. These include efforts such as local law enforcement crime analysis work,³⁰ initiatives developed with support from private organizations and foundations,³¹ and major Federal Government initiatives.³² These efforts offer the successful applicant a rich pool of both data and sites to pursue in the course of this investigation. Applicants are asked to comment on how these new developments may contribute to the execution of this study, particularly in the implementation of the study at the local level in later years.

In the program narrative section of the application, “Understanding of Problems To Be Addressed,” applicants must discuss the potential importance/significance of this project for the field and cogently describe the challenges, both theoretical and practical, that will need to be overcome in the execution of the research. Applicants must also describe how new developments in technology, such as GIS mapping, applied to community-based planning, may benefit the research.

Goal

The goal of this research program is to develop theoretically sound, empirically grounded tools that can be used at the local level to adequately explain and monitor trends in juvenile delinquency and violence. These assessment tools should be useful for program and policy development and evaluation.

Objectives

The objectives for Phase 1 (the first year) are to:

• Conduct a review of the literature, including an analysis of relevant national data, on the reasons for changes in crime trends, and develop a conceptual framework to study changes in the level of juvenile crime and violence and the factors affecting those changes.

• Develop hypotheses about those changes that can be tested at the local level in selected jurisdictions.

• Select and develop appropriate quantitative and qualitative methods and measures to study the variations in rates of youth crime and violence and their correlates over time and across jurisdictions.

• Develop a sampling strategy and select those jurisdictions for study, taking into account local trends.

• Report on the feasibility and limitations of the research design.

• Complete the research design, including plans for retrospective and prospective data collection, as appropriate, in those study sites.

Applicants must discuss their understanding of the overall goal of this research program and their vision of the potential utility it may have for localities in developing public policy and programs. Applicants must describe how the proposed goals and specific objectives for this phase of planning the research will either ensure the successful completion of the entire project or provide evidence that the project is not feasible given a variety of constraints. In addition, applicants must also articulate their goals and objectives for the remaining years of the study. In the “Project Design and Implementation” section of their application, applicants must describe in general terms how they would accomplish those objectives in subsequent years of funding.

Program Strategy

OJJDP will provide support to a grantee willing to engage in a rigorous effort to develop and test explanations for the changes in juvenile violence at the local level, as measured by juvenile arrest rates for violent crime and other suitable measures of youth violence. The focus should be on those communities that have experienced increases, decreases, or no change since the mid-1990's and to monitor those trends and explanatory variables into the 2000's.

A cooperative agreement for Phase 1 will be competitively awarded for a 1-year project and budget period, with the potential of being extended to 5 years to complete Phases 2 and 3, to a qualified research organization or organizations with extensive experience in quantitative and qualitative studies of communities. It is anticipated that this research will require multidisciplinary perspectives, engaging a research team of theorists, methodologists, and others with substantive knowledge in the following critical areas: demographics, juvenile justice system policy, community and correctional sanctions and treatment programs, comprehensive community-based initiatives, delinquency prevention research and programming, community policing, cultural and ethnic minority perspectives, street gangs, gun markets, drug trafficking, and substance abuse treatment programs, education and social services networks, the FBI's National Incident-Based Reporting System (NIBRS) data systems and technologically sophisticated crime analysis functions, social indicators, survey methods and statistical analysis and statistical modeling, and qualitative research methods.

The tasks of the research are to conduct the literature review, develop hypotheses to explain the recent juvenile crime trends, and decide the basic approach for the research. The successful applicant will be responsible for all aspects of the literature review, research design, methodology, sampling plans, a feasibility assessment, instrumentation, data analysis, and the development of interim reports and other products, final reports, and recommendations, as appropriate.

The design must reflect a priority for local-level inquiry that focuses initially on the trends in county-level juvenile crime data for the period 1994-97. Applicants are required to provide a preliminary estimate of the number of jurisdictions that would be selected for exploratory study and their rationale for that estimate. Consideration should be given to local patterns that either reflect or diverge from recent national trends in serious and violent juvenile arrest rates; the anticipated scope and depth of data collection related to the explanatory variables and the manner in which these data will be collected; the minimum sampling requirements for constructing and testing various models; and the anticipated grant funds available for the project. To help explain different levels and trends in the sample, it is expected that a qualified field research team will be required to conduct surveys, interviews, and field observations; analyze local data; and examine the deployment of governmental and private resources in those communities. It is anticipated that the grantee may also need to explore key State-level contextual factors such as legal, budgetary, and policy changes that may explain trends in youth crime and violence at the local level.

The research team would use the knowledge gained from the initial research to develop methods for monitoring and attempting to explain future trends. In order to validate the explanatory models that would be derived from the 1994-97 data, the grantee would also need to collect and analyze data from subsequent years in the same jurisdictions.

Task I: Advisory Board

The grantee must establish an advisory board for the purpose of providing substantive and technical advice to the research team over the course of the study. For purposes of the application submission, applicants must identify and obtain letters of cooperation and résumés from up to four individuals to serve on the advisory board, describing how their background and skills complement those of the research team. Such commitments by prospective advisory board members are not required to be exclusive agreements. If additional members are needed to complete the advisory board, the applicant must identify only the types of disciplines and the skills and experience that are needed, not the names of the individuals. The final composition of the advisory board will be approved by OJJDP. While not members of the advisory board, designated staff from OJJDP, the Bureau of Justice Statistics, the National Institute of Justice, and other Federal agencies will be invited to serve as Federal agency representatives to the project along with others, as OJJDP deems appropriate. The applicant must also indicate key points in the process at which the advice of the board would be sought and by what means their input will be sought.

Task II: Literature Review

The applicant must review the relevant literature from the field of juvenile justice and any related fields such as criminology, sociology, demography, substance abuse, media violence, and so forth. The purpose of this review is to identify and evaluate the theoretical basis and empirical evidence to develop the study's hypotheses regarding the reasons for juvenile crime trends. The applicant may also want to consult the literature on cultural change and trends in religious or civic involvement that may relate to trends in juvenile crime and violence.

The grantee is expected to provide a report, suitable for publication as an OJJDP Bulletin or Research Summary, that synthesizes the relevant literature and national statistics and summarizes the implications of that review and analysis for the design of the study.

Task III: Preliminary Analysis of Local Trends and Selection of Study Sites

For the purposes of the application, applicants must describe and discuss the following: (1) What data they will need in order to identify and select jurisdictions for undertaking the exploratory study, (2) what methods will be used to collect and analyze the data, (3) how those choices would be guided by the literature review, and (4) how these choices will inform the testing of study hypotheses.

Task IV: Model Development

Based on the results of the previous tasks, the grantee will be expected to develop a model that is theoretically and empirically grounded and potentially useful for policy and program planning at the local level. The model will then be tested in a limited number of jurisdictions using an appropriate research design and methodology. The purpose of the test is to determine whether and how the levels, and changes in the levels, of serious juvenile crime and youth violence can be adequately monitored and explained by various factors that can be routinely measured locally.

Applicants must describe their understanding of what the model will do, what tools are needed to implement and test the model, what standards will be used to assess the feasibility and utility of the model, and how the planning phase will lay the foundation for developing and testing the models. Applicants must describe the methods they will use to define a preliminary set of data and local information that will be needed to derive the model.

Task V: Feasibility Assessment and Design Revision

Prior to finalizing the model and study design, the grantee shall present to the advisory board and OJJDP their assessment of the feasibility, limitations, and potential of the proposed model and the study design to produce useful results. Based on the review by the advisory board and OJJDP, a decision will be made by OJJDP whether to proceed with the study and, if so, the applicant will be requested to revise the model as necessary. If the decision is made not to proceed, the project will be terminated and the grantee will submit a final report.

Task VI: Recruitment of Study Sites

Upon approval of the model and research design by OJJDP, the grantee will produce a summary of the design for the purpose of recruitment of study sites to participate in the monitoring of critical factors affecting juvenile violence in the locality. The grantee will prepare the necessary materials for the Office of Management and Budget (OMB) Clearance of Information Collections and all appropriate privacy certificates and conformance to regulations regarding the protection of human subjects, as required by the design of the local studies.

Deliverables

The grantee will produce the following deliverables, as described in the tasks outlined above for Phase 1. (All reports listed below must be suitable for publication.)

• Empaneling the advisory board, establishing a meeting schedule, and convening the advisory board (Task I).

• A report that summarizes the literature and relevant national statistical trends (Task II).

• A summary of the preliminary analysis of local trends and rationale for selecting study sites (Task III).

• A proposed study design and model (Task IV).

• A feasibility assessment (Task V).

• A report that summarizes the research design (Task VI) for purposes of general dissemination and recruitment.

• All necessary documents for OMB review.

• A privacy certificate for OJJDP review, documentation of Institutional Review Board approvals, and assurances regarding protection of human research subjects (Task VI).

The application must contain a description of all products that will be produced from the project, including, but not necessarily limited to, the reports described above. The grantee must also produce a final report that provides an overview of the entire project, results, lessons learned, and recommendations for additional research, development, and dissemination. Although the reports must be of a quality that would merit publication in a refereed journal, the authors must also address the needs of policymakers and practitioners in the field.

Eligibility Requirements and Organizational Capability

OJJDP invites applications from public or private agencies or organizations with a demonstrated capability to carry out the requirements of this initiative. Private, for-profit organizations serving as the grantee or coapplicant must agree to waive any profit or fee.

The organization must have demonstrated experience in the following: conducting literature reviews in the domains of interest to this project; designing and conducting studies involving policymakers and practitioners in the justice system, preferably in the juvenile justice system; managing and analyzing complex data sets; and writing reports and presenting research findings to both research and nonresearch audiences. Applicants must outline their experience and capability in the program narrative section of the application regarding organizational capability.

In the case of joint applications, one applicant must be clearly indicated as the primary applicant (for correspondence and award purposes) and the other(s) listed as coapplicants. If contractors have been identified to be used for specific project tasks, evidence of their qualifications and willingness to undertake the specified task(s) should be provided.

To be eligible for consideration, applicants must adhere strictly to the guidelines for preparing and submitting applications regarding page length, layout, and submission deadlines.

Selection Criteria

Applications will be evaluated and rated by a peer review panel according to the criteria outlined below. In addition, the extent to which the project narrative makes clear and logical connections among the components listed below will be considered in assessing a project's merits. It is further recommended that applications be organized and presented in a way that enables application reviewers to evaluate the proposal in terms of the selection criteria outlined below.

Understanding of Problems To Be Addressed (20 Points)

Applicants must include in the program narrative a clear statement of their understanding of the problems to be addressed, specifically discussing (1) the importance/significance of the issue, the potential of this project to contribute to our knowledge about juvenile crime trends, and its potential utility to the field; and (2) the theoretical, methodological, and practical problems posed by this initiative that will need to be overcome in achieving the study goals and objectives. The applicant must outline the major research questions that will be addressed at critical points over the course of the research study, with particular attention to issues that will need to be addressed in the feasibility assessment. In addition, the applicant must also briefly describe how it sees local communities using the results of this research.

Goals and Objectives (10 Points)

The application must include a clear statement of the goals and objectives of this research program addressing the overall goals of the research, the planning phase, and the subsequent years of implementation. The goals and objectives should reflect the statement of the understanding of problems to be addressed and the major research questions that have been identified to guide the project. Any significant modification of the goals and objectives stated above should be clearly justified and the implications of any variation carried through in the rest of the proposal. Objectives should consist of clearly defined, measurable tasks that will ensure that the questions to determine the study's feasibility and utility will be answered during the planning stage.

Project Design and Implementation (35 Points)

The application should provide a detailed description of the first 12-month phase of the project. Also, it should outline how the balance of the work for the remaining phases would proceed should their basic assumptions in Phase 1 be substantiated. Design elements should follow directly from the project's goals and objectives. Applicants should address the requirements of the solicitation, particularly Tasks I through VI as described under “Program Strategy.” Applicants should also describe how the work undertaken and the deliverables related to the various tasks fit together and contribute to the overall goals of the project. Anticipated plans for data collection strategies and analysis should be clearly described. The application should demonstrate a clear understanding of the products that will be produced and their potential utility for the field.

The application must include a detailed time/task outline that indicates when specific tasks will be initiated and completed. This timeline must include, at a minimum, significant milestones in the project and product due dates. The timeline should be described in the program narrative and should be placed in appendix A of the application.

Project Management and Organizational Capability (25 Points)

Applicants must demonstrate that the organization and project staff have the necessary substantive knowledge and expertise, technical experience, organizational skills, and management structure to accomplish project tasks on time and with a high quality of workmanship. Qualifications of proposed personnel must be clearly delineated. Applicants must demonstrate the existence of a management structure that will support the achievement of the project's goals and objectives in an efficient and cost-effective manner. In particular, applicants must ensure that the tasks delineated in the project timeline (see “Project Design and Implementation,” above) are adequately staffed and that the qualifications of proposed personnel relate to proposed roles and responsibilities. Applicants must evidence the ability and commitment to perform an impartial examination of a variety of theoretical and methodological perspectives. Résumés for key staff members, including any contractors or consultants and advisory board members, should be included in appendix B. Applicants must also include in appendix B an organizational chart for the project.

Applicants should also demonstrate the organizational capacity to complete the work described in the “Project Design” section. The applicant should include a description of any similar projects it has undertaken previously. Applicants should also demonstrate knowledge and experience in juvenile justice and community assessment issues. Any letters of cooperation or support should also be included in appendix B.

Budget (10 Points)

Applicants must provide a proposed budget that is complete, detailed, reasonable, allowable, and cost effective in relation to the activities to be undertaken during the 12-month project and budget period. The detailed budget narrative should be included in appendix C and must conform to the guidelines in the OJJDP Application Kit. For projected Phases 2 through 3, the applicant shall present a preliminary budget without a detailed budget narrative. Applications must also conform to Federal requirements with respect to travel, equipment, and procurement policies.

Award Period

This project will be funded initially for a 12-month project and budget period to complete Phase I of a projected 5-year program. Funding for subsequent budget periods will be contingent on the results of the feasibility assessment, availability of funds, grantee performance, and other criteria established at the time of the award.

Award Amount

Up to $250,000 is available for the award of one cooperative agreement for Phase I for an initial 12-month project and budget period. It is anticipated that up to $2 million would be made available for the total 5-year program.

Format

Applicants must submit a program narrative of no more than 50 pages. The narrative portion of the application must be submitted on 8½- by 11-inch paper using a standard 12-point font. The application should be double spaced and printed on one side of the paper only. Single-spaced (or 1½-spaced) applications will not be accepted. Margins should be at least 1 inch on the top, bottom, and sides of each page.

This page limit does not include the abstract, the table of contents, the budget narrative, appendixes, application forms, privacy certificate, or required assurances. The narrative should be preceded by a one-page project abstract, which must also be submitted on 8½- by 11-inch paper, abstract should not exceed a maximum length of 400 words. A table of contents is also required. Appendix A should contain the project's timeline with dates for initiation and completion of critical project tasks. Appendix B should contain résumés for proposed project staff, contractors, and advisory board members; an organizational chart; and letters of cooperation. Appendix C should contain the detailed budget narrative. Appendix D should contain a Privacy Certificate.

Include in appendix E the listing of authors (by section) of this proposal and indicate whether this proposal, or portions of it, have been submitted to other Federal agencies for funding.

These requirements are necessary to maintain a fair and uniform set of standards among all applicants. If the application fails to conform to these standards, it will be rejected without further review.

Privacy and Human Subjects Protection Requirements

Office of Justice Programs regulations and policy require that all grantees receiving funds to conduct research or statistical activities that involve collecting data identifiable to a private person submit a Privacy Certificate in accordance with the requirements of 28 CFR Part 22 (specifically 28 CFR section 22.23). If required, please submit the Privacy Certificate in appendix D of the application. For details on submission requirements, see appendix B: Privacy Certificate Guidelines and Statement in the OJJDP Application Kit, www.ojjdp.ncjrs.org/grants/2000_app_kit/appenbl.html.

Applicants are advised that should their plan involve the use of human research subjects, their research proposal must be reviewed and approved by an Institutional Review Board (IRB), in accordance with DOJ regulations at 28 CFR Part 46, or determined to be exempt from such requirements. IRB review is not required prior to the submission of the application. However, if an award is made and the project involves human research subjects, OJJDP will place a special condition on the award requiring that the project be approved by the appropriate IRB before Federal funds can be disbursed for activities involving human research subjects. Applicants should include plans for IRB review where applicable in the project timeline submitted with the proposal.

Catalog of Federal Domestic Assistance (CFDA) Number

The CFDA number, required on Standard Form 424, “Application for Federal Assistance,” is 16.542. Standard Form 424 is included in the OJJDP Application Kit, which can be obtained by contacting the Juvenile Justice Clearinghouse at 800-638-8736 or sending an e-mail request to puborder@ncjrs.org. The Application Kit is also available online at www.ojjdp.ncjrs.org/grants/about.html#kit.

Coordination of Federal Efforts

To encourage better coordination among Federal agencies in addressing State and local needs, the U.S. Department of Justice is requesting applicants to provide information on the following: (1) active Federal grant awards supporting this project or related efforts, including other awards from the Department of Justice; (2) any pending applications for Federal funds for this or related efforts; and (3) plans for coordinating any funds described in items (1) and (2) with the funding requested in this application. For each Federal award, applicants must include the program or project title, the Federal granting agency, the amount of the award, and a brief description of its purpose.

The term “related efforts” is defined for these purposes as one of the following:

• Efforts for the same purpose (i.e., the proposed project would supplement, expand, complement, or continue activities funded with other Federal grants).

• Another phase or component of the same program or project (e.g., to implement a planning effort funded by other Federal monies or to provide a substance abuse treatment or educational component within an existing juvenile justice project).

• Services of some kind (e.g., technical assistance, research, or evaluation) to the program or project described in the application.

Delivery Instructions

All application packages should be mailed or delivered to the Office of Juvenile Justice and Delinquency Prevention, c/o Juvenile Justice Resource Center, 2277 Research Boulevard, Mail Stop 2K, Rockville, MD 20850; 301-519-5535. Faxed or e-mailed applications will not be accepted. Note: In the lower left-hand corner of the envelope, the applicant must clearly write “Understanding and Monitoring the “Whys” Behind Juvenile Crime Trends.”

Due Date

Applicants are responsible for ensuring that the original and five copies of the application package are received by 5 p.m. ET on October 23, 2000.

Contact

For further information, contact Barbara Allen-Hagen, Program Manager, Research and Program Development Division, Office of Juvenile Justice and Delinquency Prevention, 202-307-1308, or send an e-mail inquiry to barbara@opj.usdoj.gov.

Endnotes

1. Chaiken, J., January 2000, “Crunching the numbers: Crime and incarceration at the end of the millennium,” National Institute of Justice Journal (Washington, DC: U.S. Department of Justice, Office of Justice Programs, National Institute of Justice), p. 15.

2. Rand, M., Special analysis of machine-readable data files of the National Crime Victimization Survey (NCVS) data 1980-1998 and FBI machine-readable data files of the Supplementary Homicide Reports for 1980-1998 (Washington, DC: U.S. Department of Justice, Office of Justice Programs, Bureau of Justice Statistics).

3. Bureau of Justice Statistics, 2000, Homicide trends in the United States: 1998 Update, Bureau of Justice Statistics Crime Data Brief (Washington, DC: U.S. Department of Justice, Office of Justice Programs, Office of Juvenile Justice and Delinquency Prevention) (www.ojp.usdoj.gov/bjs/homicide).

4. Rand, Special NCVS analysis.

5. Snyder, H.N., 1999, Juvenile Arrests 1998 (Washington, DC: U.S. Department of Justice, Office of Justice Programs, Office of Juvenile Justice and Delinquency Prevention), pp. 1, 4, and 6.

6. Snyder, H.N., and Sickmund, M. 1999, Juvenile Offenders and Victims: 1999 National Report (Washington, DC: U.S. Department of Justice, Office of Justice Programs, Office of Juvenile Justice and Delinquency Prevention), p.119. See also p. 125 for variation in juvenile arrest rates for Part I Property Index Crimes.

7. Snyder and Sickmund, pp. 119, 125.

8. See ojjdp.ncjrs.org/grants/html#county for spreadsheets containing county-level juvenile arrest rates for violent crimes (Part I Violent Index Offenses) and serious property crimes (Part I Property, excluding larceny-theft) for 1994-1997. There is also a data file of the juvenile population estimates for each county for the same years. This data file was created by the National Center for Juvenile Justice based on the University of Michigan's processing of FBI Uniform Crime Reporting data. For further details on the content, definitions, methods, and limitations of the data, consult the “Content” section of the Easy Access to UCR Arrests: 1994-1997 software package at ojjdp.ncjrs.org/facts/ezaccess.html#UCR.

9. Council on Crime in America, 1977, Preventing Crime. Saving Children: Monitoring, Mentoring, and Ministering (New York, NY: Center for Civic Innovation, Manhattan Institute), pp. 1-3.

10. Office of Juvenile Justice and Delinquency Prevention, 2000, Challenging the Myths, 1999 National Report Series Bulletin (Washington, DC: U.S. Department of Justice, Office of Justice Programs, Office of Juvenile Justice and Delinquency Prevention).

11. Butterfield, F., “Decline of violent crime is linked to the crack market,” New York Times, December 28, 1998, p. 1; Fletcher, M.A. “The crime conundrum,” The Washington Post, January 16, 2000, p. F1; Zimring, F.E., 1998, American Youth Violence (New York, NY: Oxford University Press); Colvard, K., 1999, “Crime is Down? Don't Confuse Us with the Facts” (Harry Frank Guggenheim Foundation Web site: http://hfg.org/html.pages/colvard2.htm); Lattimore, P.K., Trudeau, J., Riley, K.J., Leiter, J., and Edwards, S., 1997, Homicide in Eight U.S. Cities: Trends, Context and Policy Implications (Washington, DC: U.S. Department of Justice, Office of Justice Programs, National Institute of Justice); Cook, P.J., and Laub, J.H., 1998, “The unprecedented epidemic in youth violence,” in Youth Violence, Crime and Justice: A Review of Research, edited by M. Tonry and M.H. Moore (Chicago, IL: University of Chicago Press), 24:27-64.

12. Blumstein, A., and Wallman, J., eds., Forthcoming, The Crime Drop in America (London, England: Cambridge University Press).

13. Wilson, J.Q., and Petersilia, J., eds., 1995, Crime. (San Francisco: Institute for Contemporary Studies Press), p. 507; DiIulio, J.J., Jr., “The coming of the super-predators,” Weekly Standard, November 27, 1995, p. 23; and Fox, J.A., 1996, Trends in Juvenile Violence: A Report to the United States Attorney General on Current and Future Crime Rates of Juvenile Offending (Boston, MA: Northeastern University Press).

14. Donohue, J.J., III, and Levitt, S.D., April 2000, “Legalized abortion and crime,” Quarterly Journal of Economics, Stanford Law School, Public Law Working Paper No. 1; Stanford Law School, Olin Law & Economics Program Paper No. 177. The following is a link to an electronic version of the paper: papers.ssrn.com/paper.taf?ABSTRACT_ID=174508.

15. Thornberry, T.P., Wei, E.H., Stouthamer-Loeber, M., and Van Dyke, J., 2000, Teenage Fatherhood and Delinquent Behavior, Youth Development Series Bulletin (Washington, DC: U.S. Department of Justice, Office of Justice Programs, Office of Juvenile Justice and Delinquency Prevention).

16. American Psychological Association, 1996, Violence and the Family: Report of the American Psychological Association Presidential Task Force on Violence and the Family (Washington, DC: American Psychological Association); and Rennison, C.M., and Welchans, S., May 2000, Intimate Partner Violence, Bureau of Justice Statistics Special Report (Washington, DC: U.S. Department of Justice, Office of Justice Programs, Bureau of Justice Statistics).

17. Blumstein, A., Forthcoming, “The recent rise and fall of American violence,” in The Crime Drop in America, edited by A. Blumstein and J. Wallman (London, England: Cambridge University Press).

18. Office of Juvenile Justice and Delinquency Prevention, 1999, 1997 National Youth Gang Survey, Summary (Washington, DC: U.S. Department of Justice, Office of Justice Programs, Office of Juvenile Justice and Delinquency Prevention).

19. Cook, P.J., ed., “Kids, guns, and Public Policy,” Law and Contemporary Problems: Duke University School of Law 59 (Winter 1995) 1; Fagan, J., and Wilkinson, D.L., 1998, “Guns, youth violence and social identity in inner cities,” in Youth Violence, Crime and Justice: A Review of Research, edited by M. Tonry and M.H. Moore (Chicago, IL: University of Chicago Press), 105-188; and Office of Juvenile Justice and Delinquency Prevention, 2000, Kids and Guns, 1999 National Report Series Bulletin (Washington, DC: U.S. Department of Justice, Office of Justice Programs, Office of Juvenile Justice and Delinquency Prevention).

20. Federal Interagency Forum on Child and Family Statistics, 2000, America's Children: Key National Indicators of Well-Being, 1999 (Washington, DC: U.S. Government Printing Office) (www.childstats.gov).

21. DiIulio, J.J., Jr., 1997, “Preventing Crime, Saving Children: Sticking to the Basics,” Address to the National District Attorneys Association, July 14, 1997; Fagan, P., 1995, The Real Root Causes of Crime: The Breakdown of Marriage, Family and Community Backgrounder No. 1026 (Washington, DC: The Heritage Foundation, March 17, 1995) (www.heritage.org/library/categories/crimlaw/bg1026.html); Putnam, R.D., 2000, Bowling Alone: The Collapse and Revival of American Community (New York, NY: Simon & Schuster); and Sampson, R.J., Rausenbush, S.W., and Earls, F., 1997, “Neighborhoods and violent crime: a multilevel study of collective efficacy,” Science 277:918-924.

22. Grogger, J., Forthcoming, “An economic model of recent trends in violence,” in The Crime Drop in America, edited by A. Blumstein and J. Wallman (London, England: Cambridge University Press); Curtis, R., 1998, “The improbable transformation of inner-city neighborhoods: Crime, violence, drugs, and youth in the 1990s,” Journal of Criminal Law and Criminology: Northwestern University School of Law. 88(4):1233; Anderson, E., 1998, “The social ecology of youth violence,” in Youth Violence, edited by M. Tonry and M.H. Moore (Chicago, IL: University of Chicago Press), pp. 65-104.

23. Eck, J., and Maguire, E., Forthcoming, “Have changes in policing reduced violent crime? An assessment of the evidence,” in The Crime Drop in America, edited by A. Blumstein and J. Wallman (London, England: Cambridge University Press).

24. Torbet, P., and Syzmanski, L., 1998, State Legislative Responses to Violent Juvenile Crime: 1996-97 Update, Bulletin (Washington, DC: U.S. Department of Justice, Office of Justice Programs, Office of Juvenile Justice and Delinquency Prevention).

25. Kennedy, D.M., 1997, Juvenile Gun Violence and Gun Markets in Boston. Research Preview (Washington, DC: U.S. Department of Justice, Office of Justice Programs, National Institute of Justice).

26. Sabol, W.J., and Lynch, J.P., 1997, Crime Policy Report: Did Getting Tough on Crime Pay? (Washington, DC: The Urban Institute).

27. Office of Juvenile Justice and Delinquency Prevention, 2000, Challenging the Myths, 1999 National Report Series Bulletin (Washington, DC: U.S. Department of Justice, Office of Justice Programs, Office of Juvenile Justice and Delinquency Prevention); and Chaiken, pp. 14-15.

28. America's Promise, 2000, Report to the Nation www.americaspromise.org/RTN/rtn.cfm); and The Boys and Girls Club of America Official Web site (www.bgca.org).

29. Trulear, H.D., 2000, Faith-Based Institutions and High-Risk Youth: First Report to the Field (Philadelphia, PA: Public/Private Ventures).

30. Block, R.L., and Block, C.R., 1995, “Space, place, and crime: Hot spot areas and hot places of liquor-related crime,” in Crime and Place, Crime Prevention Studies, volume 4, edited by J.E. Eck and D. Weisburg (Monsey, NY: Criminal Justice Press).

31. National Crime Prevention Council, Local Initiatives (www.ncpc.org/comm.htm); U.S. Department of Justice and National Partnership for Reinventing Government, 1999, Providing 21st Century Tools for Safe Communities: Mapping out Crime. Report of the Task Force on Crime Mapping and Data-Driven Management. Highlights in Crime Mapping and Data-Driven Management (www.npr.gov/library/papers/bkgrd/crimemap/section5.html); Kingsley, G.T., 1998, “Neighborhood Indicators: Taking Advantage of the New Potential,” Working Paper (Chicago, IL: American Planning Association) (http://www.urban.org/nnip/publications.html) [Note: The National Neighborhood Indicators Partnership with the Urban Institute, National Neighborhood Data System (NNDS) is collecting information on the Nation's 100 largest metropolitan areas. The purpose of NNDS will be examining inner-city neighborhoods to track how they changed throughout the 1990's and into the next decade.]; Brown, B., Vandivere, S., and Michelsen, E., 1999, The Child Indicator: The Child, Youth, and Family Indicators Newsletter 1(1) [Note: This first issue of this journal, published by Child Trends with funding from the Annie E. Casey Foundation, lists resources and developments in local social indicators.] (www.childtrends.org/ci); Annie E. Casey Foundation, 1997, City Kids Court: Data on the Well-Being of Children in Large Cities (Baltimore, MD: Annie E. Casey Foundation); Episcopal Health Charities and St. Luke's Episcopal Health System, Community Health Information System (www.sph.uth.tmc.edu/chis/default.htm).

32. The SACSI Program (Strategic Approaches to Community Safety Initiative): Coleman, V., Holton, W.C., Olson, K., Robinson, S.C., and Stewart, J., 1999 (October), “Teaming up for community safety: Using knowledge and teamwork to reduce crime,” National Institute of Justice Journal (Washington, DC: U.S. Department of Justice, Office of Justice Programs, National Institute of Justice) (www.ojp.usdoj.gov/nij/journals/jr000241.htm); National Institute of Justice, 1999, Solicitation for a Research Partner for the Seattle COMPASS (Community Mapping, Analysis and Planning for Safety Strategies) Initiative (www.ojp.usdog.gov/nij/fundcompas.html); Office of Juvenile Justice and Delinquency Prevention, 1999, 1998 Report to Congress: Title V Incentive Grants for Local Delinquency Prevention Programs, Report (Washington, DC: U.S. Department of Justice, Office of Justice Programs, Office of Juvenile Justice and Delinquency Prevention); Coolbaugh, K., and Hansel, C.J., 2000, The Comprehensive Strategy: Lessons Learned From the Pilot Sites, Bulletin (Washington, DC: U.S. Department of Justice, Office of Justice Programs, Office of Juvenile Justice and Delinquency Prevention); Smith, S.K., Steadman, G.W., Minton, T.D., and Townsend, M., 1999, Criminal Victimization and Perceptions of Community Safety in 12 Cities, 1998 (Washington, DC: U.S. Department of Justice, Office of Justice Programs, Bureau of Justice Statistics), NCJ 173940; Dunworth, T., Mills, G., Cordner, G., and Greene, J., 1999, National Evaluation of Weed and Seed Cross-Site Analysis (Washington, DC: U.S. Department of Justice, Office of Justice Programs, National Institute of Justice); U.S. Department of Commerce, Economics and Statistics Administration, U.S. Bureau of the Census, 2000, American Community Survey 1998 CD-ROM; Tauber, C., Lane, J., and Stevens, D., 2000, “Meeting state and community needs for social, economic and housing information: The why, what, and how of converting program records and summarized survey data to state and community information Systems,” presented at the Jacob France Center at the University of Baltimore, Conference on Developing Public Policy Applications with Summarized Survey Data and Community Administrative Records, June 6-7, 2000; Judson, D.H., and Popoff, C., 1998, “Research use of administrative records” (unpublished monograph available from the authors, e-mail: Dean.H.Judson@ccmail.census.gov); National Institute of Justice, 1999, 1998 Annual Report on Drug Use Among Adult and Juvenile Arrestees (Washington, DC: U.S. Department of Justice, Office of Justice Programs, National Institute of Justice).

Dated: August 16, 2000.
John J. Wilson,
Acting Administrator, Office of Juvenile Justice and Delinquency Prevention.

[FR Doc. 00-21325 Filed 8-21-00; 8:45 am]

BILLING CODE 4410-18-P